FEDERAL COMMUNICATIONS COMMISSION

47 CFR Part 73

[DA 00-1322; MM Docket No. 99-50; RM-9425]

Radio Broadcasting Services; Pacific Junction, IA

AGENCY: Federal Communications Commission.

ACTION: Final rule.

SUMMARY: The Commission, at the request of Warga Broadcasting L.L.C., allots Channel 299A at Pacific Junction, Iowa, as the community's first local aural transmission service. See 64 FR 8786, February 23, 1999. Channel 299A can be allotted to Pacific Junction in compliance with the Commission's minimum distance separation requirements with a site restriction of 4.5 kilometers (2.8 miles) north to avoid a short-spacing to the licensed site of Station KMAJ-FM, Channel 299C, Topeka, Kansas. The coordinates for Channel 299A at Pacific Junction are 41-03-25 North Latitude and 95-46-50 West Longitude.

DATES: Effective July 31, 2000. A filing window for Channel 299A at Pacific Junction, Iowa, will not be opened at this time. Instead, the issue of opening a filing window for this channel will be addressed by the Commission in a subsequent order.

FOR FURTHER INFORMATION CONTACT: Sharon P. McDonald, Mass Media Bureau, (202) 418-2180.

SUPPLEMENTARY INFORMATION: This is a synopsis of the Commission's Report and Order, MM Docket No. 99-50, adopted June 7, 2000, and released June 16, 2000. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

PART 73—[AMENDED]

1. The authority citation for part 73 continues to read as follows:

Authority: 47 U.S.C. 54, 303, 334, 336.

§ 73.202 [Amended]

2. Section 73.202(b), the Table of FM Allotments under Iowa, is amended by adding Pacific Junction, Channel 299A.

Federal Communications Commission.
John A. Karousos,
Chief, Allocations Branch, Policy and Rules Division, Mass Media Bureau.

[FR Doc. 00-16871 Filed 7-3-00; 8:45 am]

BILLING CODE 6712-01-U